SUSQUEHANNA RIVER BASIN COMMISSION

General Permit Notice

AGENCY: Susquehanna River Basin Commission.

ACTION: Notice.

SUMMARY: This notice lists General Permits approved by the Susquehanna River Basin Commission during the period set forth in DATES.

DATES: September 1-30, 2024.

ADDRESSES: Susquehanna River Basin Commission, 4423 North Front Street, Harrisburg, PA 17110-1788.

FOR FURTHER INFORMATION CONTACT: Jason E. Oyler, General Counsel and Secretary to the Commission, telephone: (717) 238-0423, ext. 1312; fax (717) 238-2436; email: joyler@srbc.gov. Regular mail inquiries may be sent to the above address.

SUPPLEMENTARY INFORMATION: This notice lists General Permits for projects, described below, pursuant to 18 CFR 806.17(c)(4), for the time period specified above.

1. Caernarvon Township Authority—Well 8, General Permit Approval of Coverage No. GP-02-20240908, Caernarvon Township, Berks County, Pa.; emergency/maintenance operations approved up to 0.673 mgd (30-day average); Approval Date: September 12, 2024.

Authority: Public Law 91-575, 84 Stat. 1509 et seq., 18 CFR parts 806 and 808.

Dated: October 9, 2024.
Jason E. Oyler,
General Counsel and Secretary to the Commission.

[FR Doc. 2024-23733 Filed 10-11-24; 8:45 am]

BILLING CODE 7040-01-P